DEPARTMENT OF AGRICULTURE

Forest Service

Olympic Provincial Interagency Executive Committee (PIEC) Advisory Committee

AGENCY: Forest Service, USDA.

ACTION: Notice of meeting.

SUMMARY: The Olympic PIEC Advisory Committee will meet on August 18, 2000. The meeting will be held at the Satsop Development Park conference room in Satsop, Washington (Satsop Development Park Office, 471 Lambert Road). The meeting will begin at 9:30 a.m. and end at approximately 3:30 p.m.

Agenda topics are (1) Field trip tour to the Satsop Industrial/Telecommunications Park; (2) field discussion of the Satsop Demonstration Forest; (3) Open forum; and (4) Public comments. All Olympic Province Advisory Committee Meetings are open to the public. Interested citizens are encourage to attend.

FOR FURTHER INFORMATION CONTACT: Direct questions regarding this meeting to Ken Eldredge, Province Liaison, USDA, Olympic National Forest Headquarters, 1835 Black Lake Blvd., Olympia, WA 98512-5623, (360) 956-2323 or Dale Hom, Forest Supervisor, at (360) 956-2301.

Dated: July 17, 2000.
Dale Hom,
Forest Supervisor, Olympic National Forest.

[FR Doc. 00-19180 Filed 7-28-00; 8:45 am]

BILLING CODE 3410-11-M